DEPARTMENT OF LABOR

Bureau of International Labor Affairs, Office of Foreign Relations; Questions and Answers for Solicitation for Cooperative Agreement Application (SGA) 01-10 Caribbean Labor Market Information System Market

AGENCY: Bureau of International Labor Affairs, Office of Foreign Relations, Labor.

ACTION: Notice.

SUMMARY: In response to the subject solicitation, inquiries have been received regarding the requirements of the solicitation. This notice publishes the inquiries and the responses to the inquiries. Due to the pending closing date of September 12, 2001 no further questions will be entertained.

FOR FURTHER INFORMATION CONTACT: Lisa Harvey, Department of Labor, Procurement Services Center, Room N-5416, 200 Constitution Ave., NW., Washington, DC 20210, Telephone (202) 219-9355, e-mail: harvey_lisa@dol.gov.

Q: Given the fact that detailed national plans can only be derived from on-site assessments within the individual countries with consensus-building exercises with government officials and the social partners, could you clarify what level of specificity is required regarding the implementation or redesign of the proposed surveys (i.e. labor force and occupational wage surveys)?

A: The level of specificity necessary for a complete and thorough demonstration of the applicant's abilities, and then for a thorough review and full consideration by the technical evaluation panel shall be determined by and is the responsibility of the applicant.

Q: Is USDOL proposing the implementation of a regional labor force survey and an occupational employment and wage that must be adopted by all countries rather than allowing the individual countries to develop surveys or refine existing surveys and collection techniques?

A: USDOL, in support of Caribbean government efforts to collect and report on data that can be aggregated regionally and compared across countries, is promoting the implementation of a standard labor force survey for the region. The survey would collect a core set of labor market data, from which individual countries could expand upon (but not subtract) at their discretion to collect additional relevant data to meet their particular information needs.

Q: If USDOL is proposing the implementation of multiple labor force surveys, could you identify which countries USDOL intends to target?

A: All of the countries listed in the SUMMARY section of the SGA.

Q: Could you clarify what is the distinction between (1) “method for performing all the specific work * * *” and (3) “approach to producing all the required deliverables * * *”?

A: There is no distinction.

Q: Given that detailed national plans can only be derived from on-site needs analyses that feed into a consensus-building process involving the social partners, what level of specificity is required for regional and national workplans in the “Technical Sample”?

A: The level of specificity necessary for a complete and thorough demonstration of the applicant's abilities, and then for a thorough review and full consideration by the technical evaluation panel shall be determined by and is the responsibility of the applicant.

Q: Will a bid be deemed responsive to the solicitation requirements if the workplans provided in the “Technical Sample” section include an indicative list of activities that will be finalized during project implementation in collaboration with national partners?

A: Yes.

Q: Is a separate budget required for each of the 13 national workplans? If so, given that training and other project activities will likely be conducted on a regional or multi-country level in many cases, how can 13 separate national budgets be developed for these shared and indivisible resources?

A: No.

Signed at Washington, DC this 5th day of September 2001.
Lawrence J. Kuss,
Grant Officer.

[FR Doc. 01-22606 Filed 9-7-01; 8:45 am]

BILLING CODE 4510-28-M